ENVIRONMENTAL PROTECTION AGENCY

[FRL-9958-90-Region 3]

EPA-Mid-Atlantic Region III; Maryland Marine Sanitation Device Standard—Receipt of Petition

AGENCY: Environmental Protection Agency (EPA).

ACTION: Notice—Receipt of petition.

SUMMARY: Notice is hereby given that a petition has been received from the Secretary of the Maryland Department of Natural Resources on behalf of the State of Maryland requesting a determination by the Regional Administrator, U.S. Environmental Protection Agency (EPA) Mid-Atlantic Region, that adequate facilities for the safe and sanitary removal and treatment of sewage from all vessels are reasonably available for the Chester River, Kent and Queen Anne's Counties, Maryland. EPA is requesting comments on this petition and whether EPA should designate the Chester River and its tributaries as a No Discharge Zone as provided in the Clean Water Act. The petition is available upon request from EPA (at the email address below) or at http://dnr.maryland.gov/boating/Documents/FINAL_CRA_NDZ_APPLICATION.pdf.

DATES: Comments must be received in writing to EPA on or before April 27, 2017.

ADDRESSES: Comments should be sent to Michael D. Hoffmann, U.S. Environmental Protection Agency—Mid-Atlantic Region, 1650 Arch Street, Mail Code 3WP10, Philadelphia, PA 19103-2029, or emailed to Hoffmann.michael@epa.gov. Only written comment will be considered.

FOR FURTHER INFORMATION CONTACT: Michael D. Hoffmann, U.S. Environmental Protection Agency—Mid-Atlantic Region. Telephone: (215) 814-2716, Fax number: (215) 814-2301; email address: Hoffmann.michael@epa.gov.

SUPPLEMENTARY INFORMATION: Notice is hereby given that a petition has been received from the Secretary of the Maryland Department of Natural Resources on behalf of the State of Maryland requesting a determination by the Regional Administrator, U.S. Environmental Protection Agency, Mid-Atlantic Region pursuant to Section 312(f)(3) of the Clean Water Act, 33 U.S.C. 1322(f)(3), that adequate facilities for the safe and sanitary removal and treatment of sewage from all vessels is reasonably available for the entirety of the Chester River and its tributaries. EPA is requesting comments on this petition and whether EPA should designate the Chester River as a No Discharge Zone as provided in that provision of the Clean Water Act. The petition is available upon request from EPA (at the address above) or at http://dnr.maryland.gov/boating/Documents/FINAL_CRA_NDZ_APPLICATION.pdf.

The State of Maryland makes this request as part of its application for a No Discharge Zone which will prohibit the discharge of sewage from vessels into the Chester River and its tributaries. The delineation of the proposed No Discharge Zone of the Chester River and its tributaries from the Chesapeake Bay will begin at 39°8′54.48″ N., 76°16′37.11″ W. and extend down to 39°2′23.56″ N., 76°18′8.89″ W. From there it will continue east throughout any navigable waters including all tributaries and bays. Included within this zone are Lankford Bay, Corsica River, Southeast Creek, and many smaller tributaries.

The State of Maryland has certified that there are nineteen stationary and four mobile pumpout stations located at 17 marinas or docks throughout the Chester River. Sixteen of the nineteen stationary units also have a method to empty portable toilets. All of the pump-out stations noted were funded with grants administered by the Maryland Department of Natural Resources and all comply with local and state sanitary permitting requirements. A list of the facilities, phone numbers, locations, and hours of operation can be found below.

List of Facilities With Pumpouts in the Proposed No Discharge Zone
Pumpout facility | Operating hours in season | Mean low water depth (ft) | Phone No. | Address
Bayside Landing Park | 24-7 | 5 | 410-778-2600 | 20927 Bayside Avenue, Rock Hall, MD 21661.
Castle Harbor Marina | 24-7 | 6 | 410-643-5599 | 301 Tackle Cir, Chester, MD 21619.
Chestertown Marina | 9:00-5:00 daily | 10 | 410-778-0500 | 207 S Water St, Chestertown, MD 21620.
Gratitude Marina | 9:00-5:00 daily | 7 | 410-639-7011 | 5924 Lawton Ave, Rock Hall, MD 21661.
Haven Harbor Marina | 8:00-5:00 daily | 6 | 410-778-6687 | 20880 Rock Hall Ave, Rock Hall, MD 21661.
Kennersley Point Marina | 8:00-5:00 daily | 3 | 410-758-2394 | 223 Marina Ln, Church Hill, MD 21623.
Lankford Bay Marina | 24-7 | 7 | 410-778-1414 | 23002 McKinleyville Rd, Rock Hall, MD 21661.
Long Cove Marina | 8:00-5:00 daily | 6 | 410-778-6777 | 22589 Hudson Rd, Rock Hall, MD 21661.
Mears Point Marina | 8:30-7:00 daily | 6 | 410-827-8888 | 428 Kent Narrow Way N, Grasonville, MD 21638.
North Point Marina | 9:00-5:00 daily | 6 | 410-639-2907 | 5639 Walnut St, Rock Hall, MD 21661.
Osprey Point Marina | 24-7 | 6 | 410-639-2194 | 20786 Rock Hall Ave, Rock Hall, MD 21661.
Piney Narrows Yacht Haven | 8:30-6:30 daily | 8 | 410-643-6600 | 500 Piney Narrows Rd, Chester, MD 21619.
Queenstown Harbor Community Pier | 24-7 | 6 | 301-343-5487 | 252 Harbor Lane, Queenstown, MD 21658.
Rock Hall Landing Marina | 9:00-5:00 daily | 5 | 410-639-2224 | 5657 S Hawthorne Ave, Rock Hall, MD 21661.
Sailing Emporium | 8:00-5:00 daily | 8 | 410-778-1342 | 21144 Green Lane, Rock Hall, MD 21661.
Spring Cove Marina | 24-7 | 5 | 410-639-2110 | 21035 Spring Cove Rd, Rock Hall, MD 21661.
Swan Creek Marina | 24-7 | 7 | 410-639-7813 | 6043 Lawton Ave, Rock Hall, MD 21661.

The State of Maryland has provided documentation indicating that the total vessel population is estimated to be between 2,705 and 4,700 boats in the proposed area. Using the higher of those estimates, approximately 3,196 are identified as recreational vessels, 1,151 are identified as commercial vessels, and 353 are classified as “Other.” The estimated vessel population in all of the affected areas is based on length: The most conservative estimates provided by the State of Maryland suggest that there are no vessels less than 16 feet in length, 15 vessels between 16 feet and 25 feet in length, 3,034 vessels between 25 feet and 40 feet in length, and 1,651 vessels greater than 40 feet in length. Based on the number and size of vessels and EPA guidance for state and local officials, the estimated number of vessels requiring pumpout facilities in the Chester River during peak occupancy is 1,207.

In their application, Maryland has certified that the Chester River and its tributaries need greater environmental protection and enhancement of the waters. Maryland has classified the Chester River and the Chesapeake Bay which it drains into, as impaired for not meeting applicable state water quality standards. One hundred percent (100%) of the Chester River is considered impaired by either nutrients, sediment, bacteria or a combination thereof. The counties of Kent and Queen Anne's that surround the Chester River rank as the top two Maryland waterfront counties in terms of beach closings by percentage of beaches. All beach closings were due to elevated bacteria as evidenced by high levels of enterococci.

The Chester River is an important economic driver for the region, providing jobs and revenue through tourism, commercial and recreational fishing for fish and shellfish, boating, and more. Many people use the Chester River for hunting, cruising, nature observation, sightseeing, waterskiing, tubing, racing, and swimming. Based on a study by the Sage Policy Group in 2012, cited in the application, the Chester River supports $86 million in annual local economic activity, 900 jobs, and $26.7 million in annual labor income.

Dated: March 10, 2017.
Cecil Rodrigues,
Acting Regional Administrator, Mid-Atlantic Region.

[FR Doc. 2017-06113 Filed 3-27-17; 8:45 am]

BILLING CODE 6560-50-P